FEDERAL COMMUNICATIONS COMMISSION

Notice of Public Information Collection(s) Being Submitted to OMB for Review and Approval

July 21, 2004.

SUMMARY: The Federal Communications Commissions, as part of its continuing effort to reduce paperwork burden invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before August 30, 2004. If you anticipate that you will be submitting comments, but find it difficult to do so within the period of time allowed by this notice, you should advise the contact listed below as soon as possible.

ADDRESSES: Direct all comments to Les Smith, Federal Communications Commission, Room 1-A804, 445 12th Street, SW., Washington, DC 20554 or via the Internet to Leslie.Smith@fcc.gov or Kristy L. LaLonde, Office of Management and Budget (OMB), Room 10236 NEOB, Washington, DC 20503, (202) 395-3087 or via the Internet at Kristy_L._LaLonde@omb.eop.gov.

FOR FURTHER INFORMATION CONTACT: For additional information or copy of the information collection(s) contact Les Smith at (202) 418-0217 or via the Internet at Leslie.Smith@fcc.gov.

SUPPLEMENTARY INFORMATION: OMB Control Number: 3060-0754.

Title: Children's Television Programming Report, FCC Form 398.

Form Number: FCC 398.

Type of Review: Revision of a currently approved collection.

Respondents: Business or other for-profit entities.

Number of Respondents: 1,950 respondents (multiple responses).

Estimated Hour per Response: 6 hours per quarter.

Frequency of Response: Recordkeeping; quarterly reporting requirement.

Total Annual Burden: 46,800 hours.

Total Annual Cost: $1,560,000.

Privacy Impact Assessment: No impact(s).

Needs and Uses: On May 1, 2001, the FCC released a Memorandum Opinion and Order on Reconsideration, MM Docket No. 00-10, FCC 01-123, which explicitly made applicable to Class A licensees the children's programming and reporting requirements governing commercial television broadcasters, including the filing of the quarterly FCC Form 398. Nothing in either the Class A Report and Order or the Order on Reconsideration modified FCC Form 398 itself. FCC Form 398 is used to identify the individual station and children's educational and informational programs, which the station broadcasts on both the regularly scheduled and preempted core programming, to meet the station's obligation under the Children's Television Act of 1990. This standardized form provides a consistent format for reporting by all licensees, which facilitates efforts by the public and the FCC to monitor compliance with the Children's Television Act.

Federal Communications Commission.
William F. Caton,
Deputy Secretary.

[FR Doc. 04-17243 Filed 7-28-04; 8:45 am]

BILLING CODE 6712-01-P